DEPARTMENT OF TRANSPORTATION

Federal Highway Administration

Environmental Impact Statement: Mercer and Middlesex Counties, NJ

AGENCY: Federal Highway Administration (FHWA), USDOT.

ACTION: Notice of scoping forum.

SUMMARY: Notice is hereby given that the Federal Highway Administration and the New Jersey Department of Transportation will be holding a Scoping Forum for the purpose of soliciting public comments on the scope of work to be performed for the Penns Neck Area Environmental Impact Statement (EIS).

The Scoping Forum will include brief presentations to introduce the overall study and the project team; describe the study's background and objectives; review the process that will be followed to evaluate all potential solutions; and introduce the technical studies, categories of possible actions, and range of impacts that the EIS will assess for all potential options. The remainder of the session will be a public comment period, wherein the public will be invited to offer statements of up to five minutes each, commenting on the study's scope of work and on the range of solutions to be considered in the EIS.

Schedule for Scoping Forum Date: Tuesday, December 4, 2001.

Time: Presentation, followed by continuous public comment period 11 a.m. to 7 p.m.; Repeat of presentation followed by continuation of public comment period, 7 p.m. to 11 p.m.

Place: West Windsor Township Municipal Building, 271 Clarksville Road, West Windsor, NJ.

If needed, a supplemental public comment period will be held on Thursday, December 6th at the West Windsor Municipal Complex, from 7 p.m. to 11 p.m., to accommodate additional speakers who could not be scheduled due to time limitations.

Comment Due Date: All comments made during the Scoping Forum public comment period will be recorded and become part of the official record of the proceedings. Written statements on the scope of work for the Penns Neck Area EIS may also be submitted, either at the Scoping Forum, or by forwarding them to Helen Neuhaus & Associates (see information below). All statements received by January 7, 2002, will be included in the official record.

Availability of Information: Documents related to the project and Scoping Forum can be reviewed on the project website at www.pennsneckareaseis.org. They are also available at any of the following project repositories (please call for hours):

West Windsor Township Public Library, 333 N. Post Road, West Windsor, NJ (609) 799-0462

Princeton Township Clerk's Office, 369 Witherspoon Street, Princeton Township, NJ (609) 924-5176

Princeton Borough Clerk's Office, Borough Hall, 1 Monument Drive, Princeton, NJ (609) 497-7622

Plainsboro Public Library, 641 Plainsboro Road, Plainsboro, NJ (609) 275-2898

Rutgers University Transportation Policy Institute, 33 Livingston Avenue, New Brunswick, NJ (732) 932-6812

Ext. 593, New Jersey Department of Transportation, 1035 Parkway Avenue, Ewing, NJ (609) 530-2824

[Ask for Andy Fekete]

Agency Scoping Meeting: A scoping meeting for public agencies will be held at a later date.

Pre-Registration for Scoping Forum and Further Information: For further information regarding the Penns Neck Area EIS, please contact Randell Prescott, Program Operations Director or Amy Fox, Environmental Coordinator, Federal Highway Administration, 840 Bear Tavern Road, Suite 310, West Trenton, NJ 08628. To pre-register and reserve a speaking time during the public comment period, please contact Helen Neuhaus by phone: (212) 532-4175; mail: 432 Park Avenue South, New York, NY 10016; email: hna1977@aol.com; or fax: (212) 532-7479.

(Catalog of Federal Domestic Assistance Program Number 20.205, Highway Research, Planning and Construction. The regulations implementing Executive Order 12372 regarding intergovernmental consultation of Federal programs and activities apply to this program)

Issued on: November 21, 2001.
Randell Prescott,
Program Operations Director, FHWA—New Jersey Division, Trenton.

[FR Doc. 01-30085 Filed 12-4-01; 8:45 am]

BILLING CODE 4910-22-M